DEPARTMENT OF TRANSPORTATION

Federal Highway Administration

Notice of Final Federal Agency Actions on Proposed Highways in Colorado

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to various proposed highway projects in the State of Colorado. Those actions grant licenses, permits, and approvals for the projects.

DATES: By this notice, the FHWA is advising the public of final agency actions subject to 23 U.S.C. 139(l)(1). A claim seeking judicial review of the Federal agency actions on any of the listed highway projects will be barred unless the claim is filed on or before October 31, 2014. If the Federal law that authorizes judicial review of a claim provides a time period of less than 150 days for filing such claim, then that shorter time period still applies.

FOR FURTHER INFORMATION CONTACT: Stephanie Gibson, Environmental Program Manager, Federal Highway Administration Colorado Division, 12300 W. Dakota Avenue, Lakewood, Colorado 80228, 720-963-3013, Stephanie.gibson@dot.gov normal business hours are 8:00 a.m. to 4:30 p.m. (Mountain time); You may also contact Vanessa Henderson, NEPA Program Manager, Colorado Department of Transportation, 4201 E. Arkansas Avenue, Shumate Building, Denver, Colorado 80222, 303-757-9878, Vanessa.henderson@dot.state.co.us, normal business hours are 7:00 a.m. to 4:30 p.m. (Mountain time).

SUPPLEMENTARY INFORMATION: Notice is hereby given that the FHWA and other Federal agencies have taken final agency actions by issuing licenses, permits, and approvals for the highway projects in the State of Colorado that are listed below. The actions by the Federal agencies on a project, and the laws under which such actions were taken, are described in the environmental assessment (EA) or environmental impact statement (EIS) issued in connection with the project and in other key project documents. The EA or EIS, and other key documents for the listed projects are available by contacting the FHWA or the Colorado Department of Transportation at the addresses provided above. The EA, Finding of No Significant Impact (FONSI), Final EIS, and Record of Decision (ROD) documents can be viewed and downloaded from the Web sites listed below.

This notice applies to all Federal agency decisions on the project as of the issuance date of this notice and all laws under which such actions were taken. This notice does not, however, alter or extend the limitation period of 150 days for challenges to final agency actions subject to previous notices published in the Federal Register, including notice given by the Federal Transit Administration on September 23, 2010 related to U.S. 36 (75 FR 58017).

This notice applies to all Federal agency decisions, actions, approvals, licenses and permits on the project as of the issuance date of this notice, including but not limited to those arising under the following laws, as amended:

1. General: National Environmental Policy Act [42 U.S.C. 4321-4347]; Federal-Aid Highway Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544]; Fish and Wildlife Coordination Act [16 U.S.C. 661-667(e)]; Magnuson-Stevenson Fishery Conservation and Management Act of 1976, as amended [16 U.S.C. 1801 et seq.].

5. Historic and Cultural Resources: Section 106 of the National Historic Preservation Act of 1966, as amended [16 U.S.C. 470f]; Archaeological Resources Protection Act of 1977 [16 U.S.C. 470aa-470mm]; Archaeological and Historic Preservation Act [16 U.S.C. 469-469c-2]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209]; the Uniform Relocation Assistance and Real Property Acquisition Policies Act of 1970, as amended [42 U.S.C. 61].

7. Wetlands and Water Resources: Clean Water Act, 33 U.S.C. 1251-1377 [Section 404, Section 401, Section 319]; Land and Water Conservation Fund Act [16 U.S.C. 4601-4-4601-11]; Safe Drinking Water Act [42 U.S.C. 300f et seq.]; Rivers and Harbors Act of 1899 [33 U.S.C. 401-406]; TEA-21 Wetlands Mitigation [23 U.S.C. 103(b)(6)(m), 133(b)(11)]; Flood Disaster Protection Act [42 U.S.C. 4001-4129].

8. Hazardous Materials: Comprehensive Environmental Response, Compensation, and Liability Act [42 U.S.C. 9601-9675]; Superfund Amendments and Reauthorization Act of 1986 [PL 99-499]; Resource Conservation and Recovery Act [42 U.S.C. 6901-6992(k)].

9. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. The projects subject to this notice are:

1. North I-25 EIS and 404 Permit. Project Location: I-25 corridor from Denver to Wellington in northern Colorado. Project reference number: IM 0253(179). Project overview: The I-25 North project is an improvements project that includes; general purpose lanes, tolled express lanes, interchange reconstruction, and multi-modal services such as: I-25 express bus, US 85 commuter bus, and commuter rail service. Project purpose: The purpose of the I-25 North project is to make improvements to provide modal alternatives, correct geometric deficiencies, improve safety, mobility and accessibility, and replace aging and obsolete infrastructure. Signed NEPA documents and permits: FEIS was signed August 19, 2011 and ROD was signed December 29, 2011. Department of the Army Permit No. NWO-2004-80110-DEN issued on May 17, 2013. http://www.coloradodot.info/projects/north-i-25-eis.

2. Arapahoe and I-25 EA. Project Location: Interstate 25 (I-25)/Arapahoe Interchange Complex. Project reference number: STA 0251(330). Project Overview: The I-25/Arapahoe Interchange project is an interchange improvement project, to improve congestion between I-25 and Arapahoe Road Interchange Complex. Project Purpose: The purpose of the project is to reduce congestion and improve traffic operations and safety for the traveling public within the I-25 and Arapahoe Road interchange complex. Signed NEPA Documents and permits: EA was signed on August 29, 2012 and FONSI on February 22, 2013. www.I25ArapahoeRoadEA.com.

3. I-25 Improvements through Pueblo EIS. Project Location: I-25 from just south of US 50/SH 47 to just south of Pueblo Boulevard in Pueblo, Colorado, a distance of approximately 7 miles. Project reference number: IM 0251-156. Project overview: The roadway in this section pre-dates the interstate system and is among the oldest segments of the interstate system in Colorado. The Modified I-25 Alternative would widen I-25 from four to six lanes through much of the project area and reconstructs and reconfigures interchanges throughout. The central part of the project would be realigned, and a portion of the existing highway would be converted to a local road. Project purpose: The purpose of the project is to improve safety by addressing deteriorating roadways and bridges and non-standard road characteristics on I-25 and improve local and regional mobility within and through Pueblo to meet existing and future travel demands. Signed NEPA documents and permits: FEIS was signed on August 15, 2013 and ROD was signed on April 17, 2014. www.newpueblofreeway.org/.

4. Dillon Extension EA. Location: I-25 to Platteville Boulevard/Dillon Drive south of the existing Eden Interchange in Pueblo County, CO. Federal project number: 0251(331). Project overview: The proposed new access to I-25 requires construction of a new bridge over I-25 at Platteville Boulevard/Dillon Drive and new on and off ramps to I-25 South of the bridge. This configuration is known as a split diamond interchange. The split diamond interchange will connect Platteville Boulevard/Dillon Drive and Eden Road. A new one-way frontage road east of I-25 and a two-way frontage road along the west side of I-25 would connect the south half of this interchange at Platteville Boulevard/Dillon Drive with the north half at Eden Road. Project purpose: The project is designed to provide more direct access to I-25 from Pueblo West, and to accommodate traffic from existing and planned growth along Platteville Boulevard/Dillon Drive west of I-25. Signed NEPA documents and permits: EA was signed on January 26, 2011 and the FONSI signed on July 27, 2011. http://www.pacog.net/pacog/dillon-eden-interchange-project

5. North Meadows EA. Location: Primarily in the northern portion of the Town of Castle Rock and Douglas County, CO. Project overview: The North Meadows Extension project is an interchange project that will provide a second northern access to the Meadows development area, Castle View High School, and Castle Rock Middle School to and from US 85 and I-25. Additionally, the project will improve operations and safety in the vicinity of the I-25/Meadows Parkway interchange, which is being compromised by off-ramp backups on the mainline I-25 and by over-capacity on-ramp merges. Project purpose: The purpose of the project is to relieve traffic congestion and improve safety at the US 85/Meadows Parkway intersection and I-25/Meadows Parkway interchange. Signed NEPA documents and permits: EA was signed on March 23, 2010 and the FONSI was signed on March 17, 2011. http://crgov.com/index.aspx?nid=373.

Authority: 23 U.S.C. 139(l)(1).

Dated: May 20, 2014.
John M. Cater,
Division Administrator, Lakewood, Colorado.

[FR Doc. 2014-12611 Filed 6-2-14; 8:45 am]

BILLING CODE 4910-22-P